NUCLEAR REGULATORY COMMISSION

[Docket No. 30-36239-ML; ASLBP No. 03-814-01-ML]

CFC Logistics, Inc.; Designation of Presiding Officer

Pursuant to delegation by the Commission, see 37 FR 28710 (Dec. 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR 2.1205(h), the Presiding Officer will conduct an adjudicatory hearing in the following proceeding: CFC Logistics, Inc., Quakertown, Pennsylvania (Materials License).

The hearing will be conducted pursuant to 10 CFR Part 2, Subpart L, of the Commission's Regulations, “Informal Hearing Procedures for Adjudications in Materials and Operator Licensing Proceedings.” This proceeding concerns a June 23, 2003 hearing request submitted by twenty-two residents of Milford Township, Pennsylvania, regarding a February 19, 2003 materials license application by CFC Logistics, Inc., to use cobalt-60 in the irradiation of a wide range of materials, including food, cosmetic, and pharmaceutical products, at a facility located in Quakertown, Pennsylvania.

The Presiding Officer in this proceeding is Administrative Judge Michael C. Farrar. Pursuant to the provisions of 10 CFR 2.722, 2.1209, Administrative Judge Charles N. Kelber has been appointed to assist the Presiding Officer in taking evidence and in preparing a suitable record for review.

All correspondence, documents, and other materials shall be filed with Judges Farrar and Kelber in accordance with 10 CFR 2.1203. Their addresses are:

Administrative Judge Michael C. Farrar, Presiding Officer, Atomic Safety and Licensing Board Panel, U.S. Nuclear Regulatory Commission, Washington, DC 20555-0001;

Dr. Charles N. Kelber, Special Assistant, Atomic Safety and Licensing Board Panel, U.S. Nuclear Regulatory Commission, Washington, DC 20555-0001.

Issued at Rockville, Maryland, this 14th day of July 2003.
G. Paul Bollwerk, III,
Chief Administrative Judge, Atomic Safety and Licensing Board Panel.

[FR Doc. 03-18263 Filed 7-17-03; 8:45 am]

BILLING CODE 7590-01-P